DEPARTMENT OF THE INTERIOR

National Park Service

National Register of Historic Places; Notification of Pending Nominations and Related Actions

Nominations for the following properties being considered for listing or related actions in the National Register were received by the National Park Service before October 31, 2009. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington, DC 20005; or by fax, 202-371-6447. Written or faxed comments should be submitted by December 3, 2009.

J. Paul Loether,
Chief, National Register of Historic Places/National Historic Landmarks Program.

CALIFORNIA

Amador County

Kirkwood Lake Tract, 1/2 mile N. of CA 88 on the Eldorado National Forest, Pioneer, 09001054

FLORIDA

Citrus County

Etna Turpentine Camp Archaeological Site, Address Restricted, Inverness, 09001055

GEORGIA

Carroll County

Bowdon Historic District, Roughly centered along GA 166 and GA 100, Bowdon, 09001056

Cherokee County

Ball Ground Historic District, Old Canton Rd. and GA 372, Ball Ground, 09001057

ILLINOIS

Jo Daviess County

Chapman, John, Village Site, Address Restricted, Hanover, 09001058

LOUISIANA

Washington Parish

Moore, Bouey, Homestead, 19068 Moore Rd., Franklinton, 09001059

MARYLAND

Anne Arundel County

Queenstown Rosenwald School, (Rosenwald Schools of Anne Arundel County, Maryland MPS) 430 Queenstown Rd., Severn, 09001060

Baltimore County

East Monument Historic District, N. Washington St. on the W; Amtrak rail line on the N. to E. St.; S. to Monument and E. to Highland Ave.; Baltimore, 09001061

MICHIGAN

Baraga County

Dodd Ford Bridge, (Iron and Steel Bridges in Minnesota MPS) Co. Rd. 147 over Blue Earth River, Shelby, 09001070

Lake County

Idlewild Historic District (Boundary Increase), Bounded generally by US 10 on the N.; 72nd St. on the S.; Nelson Rd. on the E.; and extending W. of Forman Rd., Yates, 09001062

Macomb County

Wolcott Mill, 63841 Wolcott Rd., Ray, 09001063

Manistee County

Orchard Beach State Park, 2064 N. Lakeshore Rd., Manistee, 09001064

Presque Isle County

Hoeft, P.H., State Park, 5001 US 23 N., Rogers, 09001065

Onaway State Park, 3622 MI 211 N., North Allis, 09001066

Washtenaw County

Detroit Financial District, Bounded by Woodward & Jefferson and Lafayette & Washington Blvd., Detroit, 09001067

Wayne County

Koebel, Charles J. and Ingrid V. (Frendberg), House, 203 Cloverly Rd., Grosse Pointe Farms, 09001068

Michigan Bell and Western Electric Warehouse, 882 Oakman Blvd., Detroit, 09001069

NEBRASKA

Wayne County

Wayne Commercial Historic District, S. Main, N. Main and 2nd St., Wayne, 09001071

NEW JERSEY

Bergen County

New York, Susquehanna & Western Railroad ALCO Type S-2 Locomotive #206, Maywood Station Museum, 271 Maywood Ave., Maywood Borough, 09001072

Essex County

Anderson Park, SE. corner of Bellevue and North Mountain Ave., Montclair, 09001073

Hunterdon County

Case-Dvoor Farmstead, 111 Mine St., Raritan, 09001074

Morris County

Montville Schoolhouse, 6 Taylortown, Montville, 09001075

Vreeland, Nicholas, Outkitchen, (Dutch Stone Houses in Montville MPS) 52 Jacksonville Rd., Towaco, Montville, 09001076

Whippany Burying Yard, NJ 10, Hanover, 09001077

Union County

All Souls Church, 724 Park Ave., Plainfield City, 09001078

NEW YORK

Albany County

Norman Vale, (Mexico MPS) 6030 Nott Rd., Guilderland, 09001079

Cortland County

Stage Coach Inn, 2548 Clarks Corners Rd., Lapeer, 09001080

Kings County

Congregational Church of the Evangel, 1950 Bedford Ave., Brooklyn, 09001081

Ocean Parkway Jewish Center, 550 Ocean Pkwy., Brooklyn, 09001082

Madison County

Chittenango Pottery, 11-13 Pottery St., Chittenango, 09001083

Nassau County

DuPont-Guest Estate, S. side of Northern Blvd. between Cotillion Ct. & DuPont Ct., Brookville, 09001084

New York County

Westbeth, 55 Bethune St., New York, 09001085

Queens County

Church-in-the-Gardens, The, 50 Ascan Ave., Forest Hills, 09001086

Sullivan County

Jewish Center of Lake Huntington, 13 Co. Rd. 116, Lake Huntington, 09001087

Wayne County

Preston-Gaylord Cobblestone Farmhouse, (Cobblestone Architecture of New York State MPS) 7563 Lake Rd., Sodus, 09001088

Request for REMOVAL has been made for the following resources:

KENTUCKY

Jefferson County

Meier, William G., Warehouse, (West Louisville MRA) 2100 Rowan St., Louisville, 83002704

National Tobacco Works Warehouse, (West Louisville MRA) 101-113 S. 24th St., Louisville, 83002712

[FR Doc. E9-27621 Filed 11-17-09; 8:45 am]

BILLING CODE P